DEPARTMENT OF LABOR

Occupational Safety and Health Administration

[Docket No. OSHA-2011-0055]

Steel Erection Standard; Extension of the Office of Management and Budget's (OMB) Approval of Information Collection (Paperwork) Requirements

AGENCY: Occupational Safety and Health Administration (OSHA), Labor.

ACTION: Request for public comments.

SUMMARY: OSHA solicits public comments concerning the proposal to extend the Office of Management and Budget's (OMB) approval of the information collection requirements contained in the Steel Erection Standard.

DATES: Comments must be submitted (postmarked, sent, or received) by December 18, 2020.

ADDRESSES:

Electronically: You may submit comments and attachments electronically at http://www.regulations.gov, which is the Federal eRulemaking Portal. Follow the instructions online for submitting comments.

Facsimile: If your comments, including attachments, are not longer than 10 pages you may fax them to the OSHA Docket Office at (202) 693-1648.

Mail, hand delivery, express mail, messenger, or courier service: When using this method, you must submit a copy of your comments and attachments to the OSHA Docket Office, OSHA Docket No. OSHA-2011-0055, Occupational Safety and Health Administration, U.S. Department of Labor, Room N-3653, 200 Constitution Avenue NW, Washington, DC 20210. Please note: While OSHA's Docket Office is continuing to accept and process submissions by regular mail, due to the COVID-19 pandemic, the Docket Office is closed to the public and not able to received submissions to the docket by hand, express mail, messenger, and courier service.

Instructions: All submissions must include the agency name and the OSHA docket number (OSHA-2011-0055) for the Information Collection Request (ICR). All comments, including any personal information you provide, such as social security numbers and dates of birth, are placed in the public docket without change, and may be made available online at http://www.regulations.gov. For further information on submitting comments, see the “Public Participation” heading in the section of this notice titled SUPPLEMENTARY INFORMATION.

Docket: To read or download comments or other material in the docket, go to http://www.regulations.gov or the OSHA Docket Office at the above address. All documents in the docket (including this Federal Register notice) are listed in the http://www.regulations.gov index; however, some information (e.g., copyrighted material) is not publicly available to read or download through the website. All submissions, including copyrighted material, are available for inspection and copying at the OSHA Docket Office. You may also contact Theda Kenney at (202) 693-2222 to obtain a copy of the ICR.

FOR FURTHER INFORMATION CONTACT: Seleda Perryman or Theda Kenney, Directorate of Standards and Guidance, OSHA, U.S. Department of Labor, telephone (202) 693-2222.

SUPPLEMENTARY INFORMATION:

I. Background

The Department of Labor, as part of a continuing effort to reduce paperwork and respondent (i.e., employer) burden, conducts a preclearance process to provide the public with an opportunity to comment on proposed and continuing information collection requirements in accordance with the Paperwork Reduction Act of 1995 (PRA) (44 U.S.C. 3506(c)(2)(A)). This program ensures that information is in the desired format, the reporting burden (time and costs) is minimal, the collection instruments are clearly understood, and OSHA's estimate of the information collection burden is accurate. The Occupational Safety and Health Act of 1970 (OSH Act) (29 U.S.C. 651 et seq.) authorizes information collection by employers as necessary or appropriate for enforcement of the OSH Act, or for developing information regarding the causes and prevention of occupational injuries, illnesses, and accidents (29 U.S.C. 657). The OSH Act also requires OSHA to obtain such information with a minimum burden upon employers, especially those operating small businesses, and to reduce to the maximum extent feasible unnecessary duplication of effort in obtaining said information (29 U.S.C. 657).

Section 1926.752(a)(1)

Based on the results of a specified method for testing field-cured samples, the controlling contractor must provide the steel erector with written notification that the concrete in the footings, piers, and walls, or the mortar in the masonry piers and walls, is at 75% of the minimum compressive-design strength or has sufficient strength to support loads imposed during steel erection. Note: This is not and will not be enforced for mortar in piers and walls until such time as OSHA is able to define an appropriate substitute or until an appropriate American Society for Testing and Materials (ASTM) test method is developed.

Sections 1926.752(a)(2) and 1926.755(b)(1)

Under § 1926.752(a)(2), the controlling contractor, before it authorizes commencement of steel erection, must notify the steel erector in writing that any repairs, replacements, and modifications to anchor bolts (rods) have been made in accordance with § 1926.755(b)(1) which requires the controlling contractor to obtain approval from the project structural engineer of record for the repairs, replacements, and modifications.

Section 1926.753(c)(5)

Employers must not deactivate safety latches on hooks or make them inoperable except for the situation when: A qualified rigger determines that it is safer to hoist and place purlins and single joists by doing so; or except when equivalent protection is provided in the site-specific erection plan.

Section 1926.753(e)(2)

Employers must have the maximum capacity of the total multiple-lift rigging assembly, as well as each of the individual attachment points, certified by the manufacturer, or a qualified rigger.

Sections 1926.755(b)(1) and 1926.755(b)(2)

Under § 1926.755(b)(2), throughout steel erection the controlling contractor must notify the steel erector in writing of additional repairs, replacements, and modifications of anchor bolts (rods); § 1926.755(b)(1) requires that these repairs, replacements, and modifications not be made without approval from the project structural engineer of record.

Section 1926.757(a)(4)

If steel joists at or near columns span more than 60 feet, employers must set the joists in tandem with all bridging installed. However, the employer may use an alternative method of erection if a qualified person develops the alternative method, it provides equivalent stability, and the employer includes the method in the site-specific erection plan.

Section 1926.757(a)(7)

Employers must not modify steel joists or steel joist girders in a way that affects their strength without the approval of the project structural engineer of record.

Sections 1926.757(a)(9) and 1926.758(g)

An employer can use a steel joist, steel joist girder, purlin, or girt as an anchorage point for a fall-arrest system only with the written approval of a qualified person.

Section 1926.757(e)(4)(i)

An employer must install and anchor all bridging on joists and attach all joist bearing ends before placing a bundle of decking on the joists, unless: a qualified person determines that the structure or portion of the structure is capable of supporting the bundle, the employer documents this determination in the site-specific erection plan, and follows the additional requirements specified in §§ 1926.757(e)(4)(ii)-(vi).

Sections 1926.760(e) and (e)(1)

The steel erector can leave the fall protection at the jobsite after completion of the erection activity only if the controlling contractor or the authorized representative directs the steel erector to do so and inspects and accepts responsibility for the fall protection.

Section 1926.752(e) and Appendix A to Subpart R, “Guidelines for Establishing the Components of a Site-Specific Erection Plan: Non-Mandatory Guidelines for Complying with 1926.752(e),” Paragraph (a)

Site-specific erection plan. Where employers elect, due to conditions specific to the site, to develop alternate means and methods that provide employee protection in accordance with §§ 1926.753(c)(5), 1926.757(a)(4), or 1926.757(e)(4), a site-specific erection plan shall be developed by a qualified person and be available at the work site. Guidelines for establishing a site-specific erection plan are contained in Appendix A to this subpart.

Appendix A to Subpart R, paragraph (b). Paragraph (b) of the Appendix provides for the development of a site-specific erection plan. Preconstruction conference(s) and site inspection(s) are held between the erector and the controlling contractor, and others such as the project engineer and fabricator before the start of steel erection. The purpose of such conference(s) is to develop and review the site-specific erection plan that will meet the requirements of this section.

Appendix A to Subpart R, paragraphs (c), (c)(1)-(c)(9), (d), (d)(1) and (d)(2). These paragraphs of Appendix A describe the components of a site-specific erection plan, including: The sequence of erection activity developed in coordination with the controlling contractor; a description of the crane and derrick selection and placement procedures; a description of the fall protection procedures that will be used to comply with § 1926.760; a description of the procedures that will be used to comply with § 1926.759; a description of the special procedures required for hazardous non-routine tasks; a certification for each employee who has received training for performing steel erection operations as required by § 1926.761; a list of the qualified and competent persons; a description of the procedures that will be utilized in the event of rescue or emergency response; the identification of the site and project; and signed and dated by the qualified person(s) responsible for the preparation and modification.

Paragraph (c)(4)(ii) of Appendix G to Subpart R

This mandatory appendix duplicates the regulatory requirements of § 1926.502 (“Fall protection systems criteria and practices”), notably the requirements specified in paragraph (c)(4)(ii). This paragraph addresses the certification of safety nets as an option available to employers who can demonstrate that performing a drop test on safety nets is unreasonable. This provision allows such employers to certify that their safety nets, including the installation of the nets, protect workers at least as well as safety nets that meet the drop-test criteria. The employer must complete the certification process prior to using the net for fall protection, and the certificate must include the following information: identification of the net and the type of installation used for the net; the date the certifying party determined that the net and the installation would meet the drop-test criteria; and the signature of the party making this determination. The most recent certificate must be available at the jobsite for inspection.

II. Special Issues for Comment

OSHA has a particular interest in comments on the following issues:

• Whether the proposed information collection requirements are necessary for the proper performance of the agency's functions, including whether the information is useful;

• The accuracy of OSHA's estimate of the burden (time and costs) of the information collection requirements, including the validity of the methodology and assumptions used;

• The quality, utility, and clarity of the information collected; and

• Ways to minimize the burden on employers who must comply—for example, by using automated or other technological information collection and transmission techniques.

III. Proposed Actions

OSHA is requesting an adjustment increase of 3,337 burden hours from 30,819 34,156 hours. This increase is the result of an estimated increase in the number of covered employers. The total estimated number of establishments affected by the regulation increased from 16,748 to 18,468, a total adjustment of 1,720 more establishments, based on updated data.

Type of Review: Extension of a currently approved collection.

Title: Steel Erection (29 CFR 1926, Subpart R).

OMB Control Number: 1218-0241.

Affected Public: Business or other for-profits.

Number of Respondents: 18,468.

Frequency: On Occasion; Quarterly; Annually; Immediately; Within 24 hours; Within 30 days.

Average Time per Response: Varies.

Estimated Number of Responses: 101,624.

Estimated Total Burden Hours: 34,156.

Estimated Cost (Operation and Maintenance): $0.

IV. Public Participation—Submission of Comments on This Notice and Internet Access to Comments and Submissions

You may submit comments in response to this document as follows: (1) Electronically at http://www.regulations.gov, which is the Federal eRulemaking Portal; (2) by facsimile (fax); or (3) by hard copy. All comments, attachments, and other material must identify the agency name and the OSHA docket number (Docket No. OSHA-2011-0055) for the ICR. You may supplement electronic submissions by uploading document files electronically. If you wish to mail additional materials in reference to an electronic or facsimile submission, you must submit them to the OSHA Docket Office (see the section of this notice titled ADDRESSES). The additional materials must clearly identify electronic comments by your name, date, and the docket number so that the agency can attach them to your comments.

Because of security procedures, the use of regular mail may cause a significant delay in the receipt of comments. For information about security procedures concerning the delivery of materials by hand, express delivery, messenger, or courier service, please contact the OSHA Docket Office at (202) 693-2350; TTY (877) 889-5627.

Comments and submissions are posted without change at http://www.regulations.gov. Therefore, OSHA cautions commenters about submitting personal information such as social security numbers and dates of birth. Although all submissions are listed in the http://www.regulations.gov index, some information (e.g., copyrighted material) is not publicly available to read or download through this website. All submissions, including copyrighted material, are available for inspection and copying at the OSHA Docket Office. Information on using the http://www.regulations.gov website to submit comments and access the docket is available at the website's “User Tips” link. Contact the OSHA Docket Office for information about materials not available through the website, and for assistance in using the internet to locate docket submissions.

V. Authority and Signature

Loren Sweatt, Principal Deputy Assistant Secretary of Labor for Occupational Safety and Health, directed the preparation of this notice. The authority for this notice is the Paperwork Reduction Act of 1995 (44 U.S.C. 3506 et seq.) and Secretary of Labor's Order No. 1-2012 (77 FR 3912).

Signed at Washington, DC, on October 13, 2020.
Loren Sweatt,
Principal Deputy Assistant Secretary of Labor for Occupational Safety and Health.

[FR Doc. 2020-23027 Filed 10-16-20; 8:45 am]

BILLING CODE 4510-26-P